COMMODITY FUTURES TRADING COMMISSION

Sunshine Act Meetings

TIME AND DATE: 10:30 a.m., Thursday, September 16, 2004.

PLACE: 1155 21st St., NW., Washington, DC, Commission Conference Room.

STATUS: Closed.

MATTERS TO BE CONSIDERED: Rule Enforcement Reviews.

FOR FURTHER INFORMATION CONTACT: Jean A. Webb, (202) 418-5100 or http://www.cftc.gov.

Jean A. Webb,
Secretary of the Commission.

[FR Doc. 04-20691 Filed 9-9-04; 1:26 pm]

BILLING CODE 6351-01-M